DEPARTMENT OF LABOR

Employment and Training Administration

[TA-W-39,947]

Martin Marietta Magnesia Specialties, Inc., Manistee, MI; Notice of Affirmative Determination Regarding Application for Reconsideration

By letter of May 3, 2002, the company requested administrative reconsideration of the Department's negative determination regarding eligibility to apply for Trade Adjustment Assistance (TAA), applicable to workers and former workers of the subject firm. The denial notice was signed on March 27, 2002, and was published in the Federal Register on April 5, 2002 (67 FR 16441).

Based on additional information provided by the company, the Department of Labor will conduct a survey of an additional major customer of the subject firm regarding their purchases of magnesium oxide during the relevant period.

Conclusion

After careful review of the application, I conclude that the claim is of sufficient weight to justify reconsideration of the Department of Labor's prior decision. The application is, therefore, granted.

Signed at Washington, DC this 17th day of June, 2002
Edward A. Tomchick,
Director, Division of Trade Adjustment Assistance.

[FR Doc. 02-18068 Filed 7-17-02; 8:45 am]

BILLING CODE 4510-30-P